ENVIRONMENTAL PROTECTION AGENCY

40 CFR Part 52

[EPA-R10-OAR-2023-0348; FRL-11133-03-R10]

Air Plan Approval; AK; Regional Haze Plan for the Second Implementation Period; Extension of Comment Period

AGENCY: Environmental Protection Agency (EPA).

ACTION: Proposed rule; extension of comment period.

SUMMARY: The Environmental Protection Agency (EPA) is extending the comment period for the proposed rulemaking entitled “Air Plan Approval; AK; Regional Haze Plan for the Second Implementation Period,” that published on October 30, 2025. This will allow interested persons additional time to prepare and submit comments.

DATES: The comment period for the action that published on October 30, 2025 (90 FR 48855), is extended. Written comments must be received on or before December 16, 2025.

ADDRESSES: Submit your comments, identified by Docket ID No. EPA-R10-OAR-2023-0348 at https://www.regulations.gov. For comments submitted at regulations.gov, follow the online instructions for submitting comments. Once submitted, comments may not be edited or removed from regulations.gov. For either manner of submission, the EPA may publish any comment received to its public docket. Do not submit electronically any information you consider to be confidential business information or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about confidential business information or multimedia submissions, and general guidance on making effective comments, please visit https://www.epa.gov/dockets/commenting-epa-dockets.

FOR FURTHER INFORMATION CONTACT: Kristin Hall, EPA Region 10, 1200 Sixth Avenue, Suite 155, Seattle, WA 98101, at (206) 553-6357 or hall.kristin@epa.gov.

SUPPLEMENTARY INFORMATION: Throughout this document, the use of “we” and “our” means “the EPA.”

On October 30, 2025 (90 FR 48855), we published “Air Plan Approval; AK; Regional Haze Plan for the Second Implementation Period” in the Federal Register. In that proposed rulemaking we proposed to approve the Alaska regional haze plan for the second implementation period and opened a 30-day comment period, ending on December 1, 2025. We received a request from the public to extend the comment period an additional 15 days, to allow interested persons additional time to prepare and submit comments. We are granting the request. Written comments must now be received on or before December 16, 2025.

List of Subjects in 40 CFR Part 52

Environmental protection, Air pollution control, Incorporation by reference, Intergovernmental relations, Nitrogen dioxide, Ozone, Particulate matter, Reporting and recordkeeping requirements, Sulfur oxides.

Authority: 42 U.S.C. 7401 et seq.

Angeles Herrera,
Director, Air and Radiation Division, Region 10.

[FR Doc. 2025-20415 Filed 11-19-25; 8:45 am]

BILLING CODE 6560-50-P